ENVIRONMENTAL PROTECTION AGENCY

[FRL-6983-3]

Notice of Final Decision To Grant Vickery Environmental, Incorporated a Modification of an Exemption From the Land Disposal Restrictions of the Hazardous and Solid Waste Amendments of 1984 Regarding Injection of Hazardous Wastes

AGENCY: Environmental Protection Agency (EPA).

ACTION: Notice of final decision on a request to modify an exemption from the Hazardous and Solid Waste Amendments of the Resource Conservation and Recovery Act.

SUMMARY: Notice is hereby given by the Environmental Protection Agency (EPA or Agency) that modification of an exemption to the land disposal restrictions under the 1984 Hazardous and Solid Waste Amendments to the Resource Conservation and Recovery Act (RCRA) has been granted to Vickery Environmental, Inc. (VEI) of Vickery, Ohio. This modification allows VEI to continue to inject two (2) RCRA-regulated hazardous wastes which will be banned from land disposal on May 7, 2001, as a result of regulations promulgated in the Federal Register (FR) on November 8, 2000 (65 FR 67132), into four Class I injection wells at the Vickery, Ohio, facility. As required by 40 CFR part 148, VEI has demonstrated, to a reasonable degree of certainty, that there will be no migration of hazardous constituents from the injection zone utilized by VEI's waste disposal facility located near Vickery, Ohio, for as long as the newly exempted wastes remain hazardous. This decision constitutes a final Agency action for which there is no administrative appeal.

DATES: This action is effective as of May 7, 2001.

FOR FURTHER INFORMATION CONTACT: Harlan Gerrish, Lead Petition Reviewer, USEPA, Region 5, telephone (312) 886-2939. Copies of the petition and all pertinent information relating thereto are on file and are part of the Administrative Record. It is recommended that you contact the lead reviewer prior to reviewing the Administrative record.

SUPPLEMENTARY INFORMATION:

I. Background

Chemical Waste Management (CWM), the predecessor of VEI, submitted a petition for an exemption from the restrictions on land disposal of hazardous wastes on January 19, 1988. Revised documents were received on December 4, 1989, and several supplemental submittals were subsequently made. The exemption was granted on August 7, 1990. On September 12, 1994, CWM submitted a petition to modify the exemption to include wastes bearing 23 additional RCRA wastes codes. Region 5 reviewed documents supporting the request and granted the modification of the exemption on May 16, 1995. A notice of the modification appeared on June 5, 1995, at 60 FR 29592 et seq. On April 9, 1996, CWM submitted a petition to again modify the exemption to allow 91 additional RCRA waste codes. Region 5 reviewed documents supporting the request and granted the modification on the exemption on June 24, 1996. A notice of the modification appeared on July 15, 1996, at 61 FR 36880 et seq. Again on May 13, 1997, CWM submitted a request to add 11 waste codes to the list. Region 5 reviewed the evidence submitted by CWM and granted the request. Notice of the approval appeared on August 12, 1997 (63 FR 43109). On October 13, 1997, CWM notified the EPA that the name of the operator of the Vickery facility would become Waste Management of Ohio (WMO). This change was acknowledged by EPA through a letter added to the Administrative Record on November 10, 1997. On August 28, 1998, WMO requested that two additional wastes codes be approved for injection. Notice of the approval appeared on December 10, 1998 (63 FR 68284). In the same year, on November 5, 1998, WMO submitted a petition to exempt four additional waste codes. Approval of this petition appeared on February 10, 1999 (64 FR 6650). On January 24, 2000, Waste Management of Ohio informed EPA of a corporate reorganization and subsequent name change from Waste Management of Ohio to Vickery Environmental, Inc. This change was acknowledged by EPA through a letter added to the Administrative Record on March 9, 2000.

The rule promulgated on November 8, 2000, bans K174 and K175 from injection after May 7, 2001, unless VEI's exemption is modified to allow injection of those wastes. As K-coded wastes, the codes represent a number of chemicals, many of which have already been approved for injection at Vickery under other waste codes. The previously unapproved chemicals found in K174 are: 1,2,3,4,6,7,8-Heptachlorodibenzo-p-dioxin, 1,2,3,4,6,7,8-Heptachlorodibenzofuran, 1,2,3,4,7,8,9-Heptachlorodibenzofuran, 1,2,3,4,6,7,8,9-Octachlorodibenzo-p-dioxin, and 1,2,3,4,6,7,8,9-Octachlorodibenzofuran. These are all large and complex molecules which will diffuse more slowly than will the chloride ion which is the most mobile molecule already approved for injection. Note that each of the new molecules contains at least seven chlorine atoms. The hazardous material in the waste represented by K175 is mercury which is already approved as D009. After review of the material submitted, the EPA has determined, as required by 40 CFR 148.20(f), that there is a reasonable degree of certainty that the hazardous constituents contained in the wastes bearing the codes to be banned will behave hydraulically and chemically like wastes for which VEI was granted its original exemption and will not migrate from the injection zone in hazardous concentrations within 10,000 years. The injection zone is the Mt. Simon Sandstone and the Rome, Conasauga, Kerbel, and Knox Formations. The confining zone is comprised of the Wells Creek and Black River Formations.

List of RCRA Waste Codes Approved for Injection: D001 D002 D003 D004 D005 D006 D007 D008 D009 D010 D011 D012 D013 D014 D015 D016 D017 D018 D019 D020 D021 D022 D023 D024 D025 D026 D027 D028 D029 D030 D031 D032 D033 D034 D035 D036 D037 D038 D039 D040 D041 D042 D043 F001 F002 F003 F004 F005 F006 F007 F008 F009 F010 F011 F012 F019 F020 F021 F022 F023 F024 F025 F026 F027 F028 F032 F034 F035 F037 F038 F039 K001 K002 K003 K004 K005 K006 K007 K008 K009 K010 K011 K013 K014 K015 K016 K017 K018 K019 K020 K021 K022 K023 K024 K025 K026 K027 K028 K029 K030 K031 K032 K033 K034 K035 K036 K037 K038 K039 K040 K041 K042 K043 K044 K045 K046 K047 K048 K049 K050 K051 K052 K060 K061 K062 K069 K071 K073 K083 K084 K085 K086 K087 K088 K093 K094 K095 K096 K097 K098 K099 K100 K101 K102 K103 K104 K105 K106 K107 K108 K109 K110 K111 K112 K113 K114 K115 K116 K117 K123 K124 K125 K126 K131 K132 K136 K140 K141 K142 K143 K144 K145 K147 K148 K149 K150 K151 K156 K157 K158 K159 K160 K161 K169 K170 K171 K172 K174 K175 P001 P002 P003 P004 P005 P006 P007 P008 P009 P010 P011 P012 P013 P014 P015 P016 P017 P018 P020 P021 P022 P023 P024 P026 P027 P028 P029 P030 P031 P033 P034 P036 P037 P038 P039 P040 P041 P042 P043 P044 P045 P046 P047 P048 P049 P050 P051 P054 P056 P057 P058 P059 P060 P062 P063 P064 P065 P066 P067 P068 P069 P070 P071 P072 P073 P074 P075 P076 P077 P078 P081 P082 P084 P085 P087 P088 P089 P092 P093 P094 P095 P096 P097 P098 P099 P101 P102 P103 P104 P105 P106 P108 P109 P110 P111 P112 P113 P114 P115 P116 P118 P119 P120 P121 P122 P123 P127 P128 P185 P188 P189 P190 P191 P192 P194 P196 P197 P198 P199 P201 P202 P203 P204 P205 U001 U002 U003 U004 U005 U006 U007 U008 U009 U010 U011 U012 U014 U015 U016 U017 U018 U019 U020 U021 U022 U023 U024 U025 U026 U027 U028 U029 U030 U031 U032 U033 U034 U035 U036 U037 U038 U039 U041 U042 U043 U044 U045 U046 U047 U048 U049 U050 U051 U052 U053 U055 U056 U057 U058 U059 U060 U061 U062 U063 U064 U066 U067 U068 U069 U070 U071 U072 U073 U074 U075 U076 U077 U078 U079 U080 U081 U082 U083 U084 U085 U086 U087 U088 U089 U090 U091 U092 U093 U094 U095 U096 U097 U098 U099 U101 U102 U103 U105 U106 U107 U108 U109 U110 U111 U112 U113 U114 U115 U116 U117 U118 U119 U120 U121 U122 U123 U124 U125 U126 U127 U128 U129 U130 U131 U132 U133 U134 U135 U136 U137 U138 U139 U140 U141 U142 U143 U144 U145 U146 U147 U148 U149 U150 U151 U152 U153 U154 U155 U156 U157 U158 U159 U160 U161 U162 U163 U164 U165 U166 U167 U168 U169 U170 U171 U172 U173 U174 U176 U177 U178 U179 U180 U181 U182 U183 U184 U185 U186 U187 U188 U189 U190 U191 U192 U193 U194 U196 U197 U200 U201 U202 U203 U204 U205 U206 U207 U208 U209 U210 U211 U213 U214 U215 U216 U217 U218 U219 U220 U221 U222 U223 U225 U226 U227 U228 U234 U235 U236 U237 U238 U239 U240 U243 U244 U246 U247 U248 U249 U271 U277 U278 U279 U280 U328 U353 U359 U364 U365 U366 U367 U372 U373 U375 U376 U377 U378 U379 U381 U382 U383 U384 U385 U386 U387 U389 U390 U391 U392 U393 U394 U395 U396 U400 U401 U402 U403 U404 U407 U408 U409 U410 U411

I. Conditions

General conditions of this exemption are found at 40 CFR part 148. The exemption granted to VEI on August 7, 1990, included a number of specific conditions. Conditions numbered (1), (2), (3), (4), and (9) remain in force. Construction of a monitoring well required under condition 5 has been completed, and the required monitoring will continue through the life of the facility. Conditions numbered (6), (7), and (8) have been fully satisfied. The results of the work carried out under these conditions confirms that the model used to simulate fluid movement within the injection zone for the next 10,000 years is valid and results of the simulation bound the region of the injection zone within which the waste will be contained.

Valerie J. Jones,
Acting Director, Water Division, Region 5.

[FR Doc. 01-12891 Filed 5-22-01; 8:45 am]

BILLING CODE 6560-50-P